DEPARTMENT OF COMMERCE

National Oceanic and Atmospheric Administration

Proposed Monterey Peninsula Water Supply Project; Intent To Prepare a Draft Environmental Impact Statement; Scoping Meeting

AGENCY: Office of National Marine Sanctuaries (ONMS), National Ocean Service (NOS), National Oceanic and Atmospheric Administration (NOAA).

ACTION: Notice of intent to prepare environmental impact statement; Scoping meeting.

SUMMARY: A permit application has been submitted by California American Water Company (CalAm) to Monterey Bay National Marine Sanctuary (MBNMS) to construct and operate a seawater reverse osmosis (SWRO) desalination facility project (Project) in Monterey County, California. The permit review process will be conducted concurrently with a public process conducted pursuant to the National Environmental Policy Act (NEPA; 42 U.S.C. 4321 et seq.). NOAA is soliciting information and comments on the range of issues and the significant issues to be analyzed in depth related to the Project proposed within MBNMS boundaries.

DATES: Comments must be received by October 2, 2015. A public meeting will be held as detailed below:

Date: September 10, 2015.

Location: Sally Griffin Active Living Center.

Address: 700 Jewell Avenue, Pacific Grove 93950.

Time: The meeting will begin at 2:00 p.m.

ADDRESSES: Comments may be submitted by either of the following methods:

• Electronic Submissions: Submit all electronic public comments via the Federal e-Rulemaking Portal. Go to www.regulations.gov/#!docketDetail;D=NOAA-NOS-2015-0105, click the “Comment Now!” icon, complete the required fields and enter or attach your comments.

• Mail: MBNMS Project Lead for CalAm Desalination Project, 99 Pacific Ave., Bldg. 455a, Monterey, CA 93940.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. ONMS will accept anonymous comments (enter “N/A” in the required fields if you wish to remain anonymous).

FOR FURTHER INFORMATION CONTACT: Karen Grimmer at 99 Pacific Ave., Bldg. 455a, Monterey, CA 93940 or mbnms.comments@noaa.gov.

SUPPLEMENTARY INFORMATION:

Background Information

I. Background

A permit application has been submitted by CalAm for construction and operation of its proposed Monterey Peninsula Water Supply Project (MPWSP or Project). The purpose of the MPWSP is to replace existing water supplies for CalAm's Monterey District service area.

The MPWSP comprises various facilities and improvements, including: A sub-surface seawater intake system; a 9.6-million-gallons-per-day (mgd) seawater reverse osmosis (SWRO) desalination plant; desalinated water storage and conveyance facilities; and expanded Aquifer Storage and Recovery (ASR) facilities.

The desalination facility would be capable of producing 10,627 acre-feet per year (AFY) of potable water on a 46-acre site located north of the City of Marina on unincorporated Monterey County property. The MPWSP proposes ten subsurface slant wells to draw seawater from beneath the ocean floor in Monterey Bay to produce the source water for the desalination plant. The subsurface slant wells would be located primarily within the City of Marina, in the active mining area of the CEMEX sand mining facility. The slant wells would be approximately 700 to 1000 feet in length, with well tips located at approximately 200 to 220 feet below mean sea level. Up to 24.1 mgd of source water would be needed to produce 9.6 mgd of desalinated product water.

The desalination plant would generate approximately 13.98 mgd of brine, including 0.4 mgd of decanted backwash water. The brine would be discharged into Monterey Bay via a 36-inch diameter pipeline to a new connection with the existing Monterey Regional Water Pollution Control Agency's (MRWPCA) outfall and diffuser located at the wastewater facility.

II. Need for Action

This notice of intent (NOI) to prepare a draft environmental impact statement and conduct scoping is published in accordance with: Section 102(2)(C) of the National Environmental Policy Act (NEPA) of 1969, as amended; and the White House Council on Environmental Quality Regulations for Implementing the Procedural Provisions of NEPA (CEQ NEPA Regulations).

The Project was subject to a Draft Environmental Impact Report (EIR), under the provisions of the California Environmental Quality Act (CEQA), published by the California Public Utilities Commission (CPUC) in April 2015. The NEPA environmental documentation will include an Environmental Impact Statement (EIS), which may be issued as a stand-alone document or as a joint draft CEQA/NEPA (EIR/EIS) document with the CPUC.

The environmental document will identify and assess potential environmental impacts associated with the proposed Project and a range of alternatives. Federal agencies would use the EIS to consider related permits or other approvals for the Project as proposed. Possible alternatives could include not approving the Project, approving a reduced size Project, or approving the Project with additional modifications identified as part of the terms and conditions of a permit or other approval.

Publication of this notice initiates the public scoping process to solicit public and agency comment, in writing or at the public meeting, regarding the full spectrum of environmental issues and concerns relating to the scope and content of the EIS, including:

• Analyses of the human and marine resources that could be affected;

• the nature and extent of the potential significant impacts on those resources;

• a reasonable range of alternatives to the proposed action; and

• mitigation measures.

III. Process

This NOI is published by NOAA/MBNMS, the lead federal agency. MBNMS has requested CPUC to re-issue the Project EIR as part of a joint draft CEQA/NEPA document. If the CPUC, as CEQA lead agency, determines that a joint CEQA/NEPA document is appropriate, the two agencies will prepare a joint draft EIR/EIS after completion of the federal scoping process. The NEPA scoping session begins at 2:00 p.m., on Thursday, September 10, 2015 at Sally Griffin Active Living Center in Pacific Grove, CA.

IV. Federal Consultations

This notice also advises the public that NOAA will coordinate its consultation responsibilities under section 7 of the Endangered Species Act (ESA), Essential Fish Habitat (EFH) under the Magnuson Stevens Fishery Conservation and Management Act (MSA), section 106 of the National Historic Preservation Act (NHPA, 16 U.S.C. 470), and Federal Consistency review under the Coastal Zone Management Act (CZMA), along with its ongoing NEPA process including the use of NEPA documents and public and stakeholder meetings to also meet the requirements of other federal laws.

In fulfilling its consultation responsibility under the ESA, MSA, NHPA, CZMA and NEPA, NOAA intends to identify consulting parties and involve the public in accordance with NOAA's NEPA procedures, and develop in consultation with identified consulting parties alternatives and proposed measures that might avoid, minimize or mitigate any adverse effects on endangered species, essential fish habitat, historic properties, or coastal zone management issues, and describe them in any environmental assessment or draft environmental impact statement.

Authority: 16 U.S.C. 1431 et seq.

Dated: August 20, 2015.
John Armor,
Acting Director for the Office of National Marine Sanctuaries.

[FR Doc. 2015-21133 Filed 8-25-15; 8:45 am]

BILLING CODE 3510-NK-P